DEPARTMENT OF COMMERCE

International Trade Administration

[A-821-808]

Notice of Extension of Time Limit for the Preliminary Results of Administrative Review of the Suspension Agreement on Certain Cut-to-Length Carbon Steel Plate from Russia

AGENCY: Import Administration, International Trade Administration, Department of Commerce.

ACTION: Notice of Extension of Time Limit for the Preliminary Results of Administrative Review of the Suspension Agreement on Certain Cut-to-Length Carbon Steel Plate from Russia.

SUMMARY: The Department of Commerce (the Department) is extending the time limit for the preliminary results of the administrative review on the suspension agreement on cut-to-length carbon steel plate from Russia.

EFFECTIVE DATE: October 1, 2007.

FOR FURTHER INFORMATION CONTACT: Sally Gannon or Jay Carreiro, Import Administration, International Trade Administration, U.S. Department of Commerce, 14th Street and Constitution Avenue, N.W., Washington, D.C. 20230, telephone: (202) 482-0162 or (202) 482-3674.

EXTENSION OF PRELIMINARY RESULTS:

The Department published its notice of initiation of this review in the Federal Register on February 28, 2007. See Initiation of Antidumping and Countervailing Duty Administrative Reviews, 70 FR 8969 (February 28, 2007). Pursuant to the time limits for administrative reviews set forth in section 751(a)(3)(A) of the Tariff Act of 1930, as amended (the Tariff Act), the current deadlines are October 3, 2007 for the preliminary results and January 31, 2008 for the final results.

The Department finds that it is not practicable to complete the preliminary results by October 3, 2007. Because this is the first administrative review of this agreement since it was converted to a market-economy agreement in 2003, the Department needs additional time to complete its preliminary analysis. The Department must carefully consider the information submitted by JSC Severstal in this review and must address any novel issues which arise in the context of its examination of compliance with the suspension agreement's terms, a process which, to date, has not occurred in this segment of the proceeding. Therefore, the Department is extending the time limit for completing the preliminary results of the review until January 31, 2008. The deadline for the final results of this review will continue to be 120 days after publication of the preliminary results.

This extension is in accordance with section 751(a)(3)(A) of the Tariff Act.

Dated: September 24, 2007.
Joseph A. Spetrini,
Deputy Assistant Secretary, Office of Policy and Negotiations Import Administration,

[FR Doc. E7-19336 Filed 9-28-07; 8:45 am]

BILLING CODE 3510-DS-S